Proclamation 8512 of April 29, 2010

Loyalty Day, 2010

By the President of the United States of America

A Proclamation

On July 4, 1776, after the adoption of the Declaration of Independence, the Continental Congress of the newly formed United States of America appointed a committee to design a national seal. Our Founders set out to create a visible symbol of our sovereign country to inspire all our citizens and to represent us abroad.

An initial sketch depicted a banner bearing the Latin motto, “E Pluribus Unum,” or, “Out of many, one.” After years of deliberation and multiple drafts of the emblem’s design, the final seal displayed an eagle with outstretched wings, clenching a banner in its beak with those powerful words emblazoned across it. It became a cherished creed, representing the foundation of our national values. As a union of States and a Nation of immigrants from every part of the world, we are bound as one people by our adherence to common ideals: individual equality, constitutional liberty, and the rule of law.

Over two centuries since our Founders established our Republic and our freedom, the firm resolve that ran in their veins still courses through our own. Since then, countless loyal Americans have risen to preserve our Union and the blessings bestowed upon us. Today, whether singing the national anthem, watching our flag billow in the breeze, or seeing the hope in a young child’s eyes, each of us can still feel the patriotism and respect for one another that defines us as a people. It is the same love of country that drives our Armed Forces to shoulder the responsibility of defending our citizens and our values. We will forever stand united against any force that seeks to divide us, finding strength in our diversity and inspiration in the sacrifices of our forebears.

The Congress, by Public Law 85-529 as amended, has designated May 1 of each year as “Loyalty Day.” On this day, we honor the legacy of these United States, and we remember all those who have fought to defend our freedom.

NOW, THEREFORE, I, BARACK OBAMA, President of the United States of America, do hereby proclaim May 1, 2010, as Loyalty Day. This Loyalty Day, I call upon the people of the United States to join in this national observance, to display the flag of the United States, and to pledge true and steadfast allegiance to the Republic for which it stands.

IN WITNESS WHEREOF, I have hereunto set my hand this twenty-ninth day of April, in the year of our Lord two thousand ten, and of the Independence of the United States of America the two hundred and thirty-fourth.

[FR Doc. 2010-10748

Filed 5-4-10; 8:45 am]

Billing code 3195-W0-P